DEPARTMENT OF COMMERCE

National Oceanic and Atmospheric Administration

RIN 0648-XS35

Marine Mammals; File No. 14450

AGENCY: National Marine Fisheries Service (NMFS), National Oceanic and Atmospheric Administration (NOAA), Commerce.

ACTION: Notice; receipt of application.

SUMMARY: Notice is hereby given that the National Marine Fisheries Service's Southeast Fisheries Science Center (SEFSC), 75 Virginia Beach Drive, Miami, FL 33149 [Principal Investigator: Dr. Keith Mullin], has applied in due form for a permit to conduct research on marine mammals.

DATES: Written, telefaxed, or e-mail comments must be received on or before November 18, 2009.

ADDRESSES: The application and related documents are available for review by selecting “Records Open for Public Comment” from the Features box on the Applications and Permits for Protected Species (APPS) home page, https://apps.nmfs.noaa.gov, and then selecting File No. 14450 from the list of available applications.

These documents are also available upon written request or by appointment in the following office(s):

Permits, Conservation and Education Division, Office of Protected Resources, NMFS, 1315 East-West Highway, Room 13705, Silver Spring, MD 20910; phone (301) 713-2289; fax (301) 713-0376;

Northeast Region, NMFS, 55 Great Republic Drive, Gloucester, MA 01930; phone (978) 281-9300; fax (978) 281-9333; and

Southeast Region, NMFS, 263 13th Avenue South, Saint Petersburg, FL 33701; phone (727) 824-5312; fax (727) 824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 14450.

FOR FURTHER INFORMATION CONTACT: Carrie Hubard or Kristy Beard, (301) 713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The SEFSC is requesting a five-year permit to conduct cetacean research in U.S. and international waters of the Atlantic Ocean, Gulf of Mexico and Caribbean Sea. The research is designed to meet the SEFSC's mandates under the MMPA and ESA and primarily focuses on stock assessment. Specific objectives include: (1) define stock structure for each species; (2) provide estimates of each stock's abundance and distribution; (3) describe the habitat of each stock in terms of biological and oceanographic parameters; (4) study association, movement, and ranging patterns of individual animals using photo-identification; and (5) assess the level of anthropogenic chemical contaminants in selected species. Proposed activities include aerial and vessel-based line-transect sampling, acoustic sampling, behavioral observations, and vessel-based photo-identification and biopsy sampling. Tissue samples collected in other countries would be imported into the U.S. Research platforms would include large ships, small vessels, and a variety of aircraft. The SEFSC is requesting takes of all cetacean species that may occur in the study area, including the following species listed as endangered (maximum number of animals that would be taken per year by Level B harassment / maximum number of animals that would be biopsy sampled per year: blue whales (Balaenoptera musculus) (20/10), fin whales (B. physalus) (500/15), sei whales (B. borealis) (10/15), humpback whales (Megaptera novaeangliae) (1000/300), sperm whales (Physeter macrocephalus) (4000/300), and North Atlantic right whales (Eubalaena glacialis) (50/0). See table in application for numbers of takes requested for other species.

Concurrent with the publication of this notice in the Federal Register, NMFS is forwarding copies of this application to the Marine Mammal Commission and its Committee of Scientific Advisors.

Dated: October 9, 2009.
Tammy C. Adams,
Acting Chief, Permits, Conservation and Education Division, Office of Protected Resources, National Marine Fisheries Service.

[FR Doc. E9-25062 Filed 10-16-09; 8:45 am]

BILLING CODE 3510-22-S